DEPARTMENT OF COMMERCE

National Oceanic and Atmospheric Administration

[I.D. 022002B]

Caribbean Fishery Management Council; Public Meetings

AGENCY: National Marine Fisheries Service (NMFS), National Oceanic and Atmospheric Administration (NOAA), Commerce.

ACTION: Notice of Public Meetings.

SUMMARY: The Caribbean Fishery Management Council's Scientific and Statistical Committee (SSC), Habitat Advisory Panel (HAP), and Advisory Panel (AP) will hold meetings.

DATES: The SSC meeting will be held on March 19, 2002, the HAP meeting will be held on March 20, 2002, and the AP meeting will be held on March 21, 2002. All meetings will be from 10 to 4 p.m.

ADDRESSES: All meetings will be held at the Embassy Suites Hotel, Isla Verde Avenue, Isla Verde, Carolina, Puerto Rico.

FOR FURTHER INFORMATION CONTACT: Caribbean Fishery Management Council, 268 Munoz Rivera Avenue, Suite 1108, San Juan, Puerto Rico 00918-2577, telephone (787) 766-5926.

SUPPLEMENTARY INFORMATION: The SSC, HAP and AP will meet to discuss the items contained in the following agendas:

March 19, 2002—SSC

Call to Order

Adoption of agenda

Queen Conch

Recovery Plan

Habitat

EFH Final Guidelines

MRAG America's Inc. Outline and Discussion of Issues on Essential Fish Habitat (EFH)

Coral Reef Conservation Opportunities for Grant Proposals

Other Business

March 20, 2002—HAP

Call to order

Adoption of agenda of Issues on EFH

Procedure for HAP Comments on Proposed Projects

Fishing Gear Impact on EFH

Coral Reef Conservation Opportunities for Grant Proposals

Other Business

March 21, 2002

Call to order

Adoption of agenda

Education/Orientation

Comments

Other Business

The meetings are open to the public, and will be conducted in English. However, simultaneous interpretation (Spanish-English) will be available during the AP meeting (March 21, 2002). Fishers and other interested persons are invited to attend and participate with oral or written statements regarding agenda issues.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and other auxiliary aids, please contact Mr. Miguel A. Rolon, Executive Director, Caribbean Fishery Management Council, 268 Munoz Rivera Avenue, Suite 1108, San Juan, Puerto Rico, 00918-2577, telephone (787) 766-5926, at least five days prior to the meeting date.

Dated: March 05, 2002.
Richard W. Surdi,
Acting Director, Office of Sustainable Fisheries, National Marine Fisheries Service.

[FR Doc. 02-5623 Filed 3-7-02; 8:45 am]

BILLING CODE 3510-22-S